DEPARTMENT OF COMMERCE

National Oceanic and Atmospheric Administration

Agency Information Collection Activities; Submission to the Office of Management and Budget (OMB) for Review and Approval; Comment Request; Coastal Zone Management Program Administration

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before May 3, 2022.

ADDRESSES: Interested persons are invited to submit written comments to Adrienne Thomas, NOAA PRA Officer, at NOAA.PRA@noaa.gov. Please reference OMB Control Number 0648-0119 in the subject line of your comments. Do not submit Confidential Business Information or otherwise sensitive or protected information.

FOR FURTHER INFORMATION CONTACT: Requests for additional information or specific questions related to collection activities should be directed to Elizabeth Mountz, Stewardship Division Operations Manager, NOAA's Office for Coastal Management, 1305 East-West Highway, Silver Spring, MD 20910, 202-596-6581, and Elizabeth.Mountz@noaa.gov.

SUPPLEMENTARY INFORMATION:

I. Abstract

This request is for revision and extension of a currently approved information collection.

In 1972, in response to intense pressure on United States (U.S.) coastal resources, and because of the importance of U.S. coastal areas, the U.S. Congress passed the Coastal Zone Management Act of 1972 (CZMA), 16 U.S.C. 1451 et seq. The CZMA authorized a federal program to encourage coastal states and territories to develop comprehensive coastal management programs. The CZMA has been reauthorized on several occasions, most recently with the enactment of the Coastal Zone Protection Act of 1996 (CZMA as amended). The program is administered by the Secretary of Commerce, who in turn has delegated this responsibility to the National Oceanic and Atmospheric Administration's (NOAA) National Ocean Services (NOS).

The coastal zone management grants provide funds to states and territories to: Implement federally-approved coastal management programs; complete information for the Coastal Zone Management Program (CZMP) Performance Management System; develop multi-year program assessments and strategies to enhance their programs within priority areas under Section 309 of the CZMA; submit documentation as described in the CZMA Section 306A for specific construction, acquisition, and educational projects; submit requests to update their federally-approved programs through amendments or program changes; and develop and submit state coastal nonpoint pollution control programs (CNP) as required under Section 6217 of the Coastal Zone Act Reauthorization Amendments.

The CZM performance report guidance will undergo minor updates that will ensure consistency with NOAA/NOS grants requirements as well as CZMA strategic priorities. The revised CZM performance measure guidance will provide clarification for reporting on competitive and multi-year awards, as well as additional guidance on financial reporting requirements. The CZMA Section 306A guidance will also likely undergo minor updates to address several technical issues that arose from the 2018 guidance update as well as clarify several minor policy issues. However, NOAA does not anticipate any changes to the record keeping requirements or time estimates for collecting the necessary documentation.

II. Method of Collection

Respondents have a choice of electronic or paper formats for submitting program documents, assessment and strategy documents, and other required materials. Grant applications are submitted electronically via Grants.gov and performance reports are submitted electronically through NOAA Grants Online. Performance measurement data is submitted through an online database. Methods of submittal for other program documents and required materials include electronic submittal via email or mail.

III. Data

OMB Control Number: 0648-0119.

Form Number(s): None.

Type of Review: Regular submission (revision and extension of a current information collection).

Affected Public: State, Local, or Tribal government.

Estimated Number of Respondents: 34.

Estimated Time per Response: Performance Reports, 27 hours; assessment and strategy documents, 240 hours; Section 306A questionnaire and documentation, 15 hours; amendments and routine program changes, 16 hours; CNP documentation, 320 hours; CZMA Performance Management System, 24 hours.

Estimated Total Annual Burden Hours: 6,280.

Estimated Total Annual Cost to Public: $850 in recordkeeping/reporting costs.

Respondent's Obligation: Required to Obtain or Retain Benefits.

Legal Authority: Coastal Zone Management Act (16 U.S.C. 1451, et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-04641 Filed 3-3-22; 8:45 am]

BILLING CODE 3510-08-P